DEPARTMENT OF THE INTERIOR

Minerals Management Service

[Docket No. MMS-2009-OMM-0004]

MMS Information Collection Activity: 1010-0071, Relief or Reduction in Royalty Rates: Proposed Collection; Comment Request

AGENCY: Minerals Management Service (MMS), Interior.

ACTION: Notice of extension of an information collection (1010-0071).

SUMMARY: To comply with the Paperwork Reduction Act of 1995 (PRA), MMS is inviting comments on a collection of information that we will submit to the Office of Management and Budget (OMB) for review and approval. The information collection request (ICR) concerns the paperwork requirements in the regulations under 30 CFR Part 203, Relief or Reduction in Royalty Rates.

DATES: Submit written comments by June 22, 2009.

FOR FURTHER INFORMATION CONTACT: Cheryl Blundon, Regulations and Standards Branch at (703) 787-1607. You may also contact Cheryl Blundon to obtain a copy, at no cost, of the regulation that requires the subject collection of information.

ADDRESSES: You may submit comments by either of the following methods listed below.

• Electronically: go to http://www.regulations.gov. Under the tab “More Search Options,” click Advanced Docket Search, then select “Minerals Management Service” from the agency drop-down menu, then click “submit.” In the Docket ID column, select MMS-2009-OMM-0004 to submit public comments and to view supporting and related materials available for this rulemaking. Information on using Regulations.gov, including instructions for accessing documents, submitting comments, and viewing the docket after the close of the comment period, is available through the site's “User Tips” link. The MMS will post all comments.

• Mail or hand-carry comments to the Department of the Interior; Minerals Management Service; Attention: Cheryl Blundon; 381 Elden Street, MS-4024; Herndon, Virginia 20170-4817. Please reference “Information Collection 1010-0071” in your subject line and mark your message for return receipt. Include your name and return address in your message text.

SUPPLEMENTARY INFORMATION:

Title: 30 CFR Part 203, Relief or Reduction in Royalty Rates.

OMB Control Number: 1010-0071.

Abstract: The Outer Continental Shelf (OCS) Lands Act, as amended by Public Law 104-58, Deep Water Royalty Relief Act (DWRRA), gives the Secretary of the Interior (Secretary) the authority to reduce or eliminate royalty or any net profit share specified in OCS oil and gas leases to promote increased production. The DWRRA also authorized the Secretary to suspend royalties when necessary to promote development or recovery of marginal resources on producing or non-producing leases in the Gulf of Mexico (GOM) west of 87 degrees, 30 minutes West longitude.

Section 302 of the DWRRA provides that new production from a lease in existence on November 28, 1995, in a water depth of at least 200 meters, and in the GOM west of 87 degrees, 30 minutes West longitude qualifies for royalty suspension in certain situations. To grant a royalty suspension, the Secretary must determine that the new production or development would not be economic without royalty relief. The Secretary must then determine the volume of production on which no royalty would be due in order to make the new production from the lease economically viable. This determination must be done on a case-by-case basis. Production from leases in the same water depth and area issued after November 28, 2000, also can qualify for royalty suspension in addition to any that may be included in their lease terms.

In addition, the Independent Offices Appropriations Act (31 U.S.C. 9701), the Omnibus Appropriations Bill (Pub. L. 104-133, 110 Stat. 1321, April 26, 1996), and Office of Management and Budget (OMB) Circular A-25, authorize Federal agencies to recover the full cost of services that confer special benefits. Under the Department of the Interior's (DOI) implementing policy, the Minerals Management Service (MMS) is required to charge the full cost for services that provide special benefits or privileges to an identifiable non-Federal recipient above and beyond those which accrue to the public at large.

Regulations at 30 CFR part 203 implement these statutes and policy and require respondents to pay a fee to request royalty relief. Section 30 CFR 203.3 states that, “We will specify the necessary fees for each of the types of royalty-relief applications and possible MMS audits in a Notice to Lessees. We will periodically update the fees to reflect changes in costs as well as provide other information necessary to administer royalty relief.”

The MMS uses the information to make decisions on the economic viability of leases requesting a suspension or elimination of royalty or net profit share. These decisions have enormous monetary impacts to both the lessee and the Federal Government. Royalty relief can lead to increased production of natural gas and oil, creating profits for lessees and royalty and tax revenues for the government that they might not otherwise receive. We could not make an informed decision without the collection of information required by 30 CFR part 203.

We will protect information from respondents considered proprietary under the Freedom of Information Act (5 U.S.C. 552) and its implementing regulations (43 CFR part 2) and 30 CFR 203.63(b) and 30 CFR 250.197. No items of a sensitive nature are collected.

Responses are mandatory or are required to obtain or retain a benefit.

Frequency: On occasion.

Estimated Number and Description of Respondents: Approximately 130 Federal OCS oil and gas lessees.

Estimated Reporting and Recordkeeping “Hour” Burden: The currently approved annual reporting burden for this collection is 4,721 hours. The following chart details the individual components and respective hour burden estimates of this ICR. In calculating the burdens, we assumed that respondents perform certain requirements in the normal course of their activities. We consider these to be usual and customary and took that into account in estimating the burden.

Citation 30 CFR 203 | Reporting or recordkeeping requirement 30 CFR Part 203 | Hour burden application fees
2(b); 3; 4; 70 | These sections contain general references to submitting reports, applications, requests, copies, demonstrating qualifications, for MMS approval—burdens covered under specific requirements | 0.
31(c) | Request a refund of or recoup royalties from qualified ultra-deep wells | 1.
35(d); 44(e) | Request to extend the deadline for beginning production with required supporting documentation | 1.
35(a); 44(a); 47(a) | Notify MMS of intent to begin drilling | 1.
35(c), (d); 44(b), (d), (e) | Notify MMS that production has begun, request confirmation of the size of RSV, provide supporting documentation | 2.
41(d) | Request a refund of or recoup royalties from qualified wells >200 meters but <400 meters | 1.
46 | Provide data from well to confirm and attest well drilled was an unsuccessful certified well with supporting documentation and request supplement | 8.
49(b) | Notify MMS of decision to exercise option to replace one set of deep gas royalty suspension terms for another set of such terms NOTE: The MMS SOL requires that the regulation stay for legacy purposes only. Last time any respondent could use was 2004 | 0.
51; 83; 84 | Application—leases that generate earnings that cannot sustain continued production (end-of-life lease) and required supporting documentation | 100. Application = $8,000.*
|  | Audit = $12,500.
52 | Demonstrate ability to qualify for royalty relief or to re-qualify | 1.
55 | Renounce relief arrangement (end-of-life) (seldom, if ever will be used; minimal burden to prepare letter) | 1.
61; 62; 64; 65; 71; 83; 85-89 | Application—leases in designated areas of GOM deep water acquired in lease sale before 11/28/95 or after 11/28/00 and are producing (deep water expansion project) and required supporting documentation | 2,000. Application = $19,500.
61; 62; 64; 65; 203.71; 203.83; 203.85-89 | Application—leases in designated areas of deep water GOM, acquired in lease sale before 11/28/95 or after 11/28/00 that have not produced (pre-act or post-2000 deep water leases) and required supporting documentation | 2,000. Application = $34,000.* Audit = $37,500.
61; 62; 64; 65; 71; 83; 85-89 | Application—preview assessment (seldom if ever will be used as applicants generally opt for binding determination by MMS instead) and required supporting documentation | Application = $34,000.
70; 81; 90; 91 | Submit fabricator's confirmation report; extension justification | 20.
70; 81; 90; 92 | Submit post-production development report; extension justification | 50.
74; 75 | Redetermination and required supporting documentation | 500.
|  | Application = $16,000.*
77 | Renounce relief arrangement (deep water) (seldom, if ever will be used; minimal burden to prepare letter) | 1.
79(c) | Request extension of deadline to start construction | 2.
80 | Application—apart from formal programs for royalty relief for a marginal producing lease (Special Case Relief) and required supporting documentation | 250. Application = $8,000.**
|  | Audit = $10,000.
80 | Application—apart from formal programs for royalty relief for marginal expansion project or marginal non-producing lease (Special Case Relief) and required supporting documentation | GOM—1,000. Application = $19,500.** Audit = $20,000.
|  | POCS—40.
|  | Application = $6,500.***
81; 83-90 | Required reports; extension justification | Burden included with applications.
81(d) | Retain supporting cost records for post-production development/fabrication reports (records retained as usual/customary business practice; minimal burden to make available at MMS request) | 8.
83 | Application—short form to add or assign pre-Act lease and required supporting documentation | 40 Application = $1,000.
* CPA certification expense burden also imposed on applicant.
** These applications currently do not have a set fee since they are done on a case-by-case basis. In the past 11 years, three unique applications have been submitted and the respondents were charged approximately $8,000 per application, and $19,500 respectively.

Note: Applications include numerous items such as: transmittal letters, letters of request, modifications to applications, reapplications, etc.

Estimated Reporting and Recordkeeping “Non-Hour Cost” Burden: There are two non-hour costs associated with this information collection. The currently approved non-hour cost burden is $280,670. This estimate is based on:

(a) Application and audit fees. The total annual estimated cost burden for these fees is $145,670 (refer to burden chart).

(b) Cost of reports prepared by independent certified public accountants. Under § 203.81, a report prepared by an independent certified public accountant (CPA) must accompany the application and post-production report (expansion project, short form, and preview assessment applications are excluded). The OCS Lands Act applications will require this report only once; the DWRRA applications will require this report at two stages—with the application and post-production development report for successful applicants. We estimate approximately three submissions, during the information collection extension, at an average cost of $45,000 per report, for a total estimated annual cost burden of $135,000. We have not identified any other non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: April 10, 2009.
E.P. Danenberger,
Chief, Office of Offshore Regulatory Programs.

[FR Doc. E9-9194 Filed 4-21-09; 8:45 am]

BILLING CODE 4310-MR-P